DEPARTMENT OF COMMERCE

International Trade Administration

[A-580-881]

Certain Cold-Rolled Steel Flat Products From the Republic of Korea: Preliminary Results of Antidumping Duty Administrative Review; 2019-2020

AGENCY: Enforcement and Compliance, International Trade Administration, Department of Commerce.

SUMMARY: The Department of Commerce (Commerce) preliminarily finds that certain cold-rolled steel flat products (cold-rolled steel) from the Republic of Korea were not sold in the United States at less than normal value during the period of review (POR), September 1, 2019, through August 31, 2020. Interested parties are invited to comment on these preliminary results.

DATES: Applicable October 6, 2021.

FOR FURTHER INFORMATION CONTACT: Michael J. Heaney, George McMahon, or Marc Castillo, AD/CVD Operations, Office VI, Enforcement and Compliance, International Trade Administration, U.S. Department of Commerce, 1401 Constitution Avenue NW, Washington, DC 20230; telephone: (202) 482-4475, (202) 482-1167, or (202) 482-5019, respectively.

SUPPLEMENTARY INFORMATION:

Background

Commerce initiated this review on October 30, 2020.¹ We selected two mandatory respondents in this review, Hyundai Steel Company (Hyundai) and POSCO International Corporation (PIC).²

¹ See Initiation of Antidumping and Countervailing Duty Administrative Reviews, 85 FR 68840 (October 30, 2020).

² See Memorandum, “2019-2020 Administrative Review of Cold-Rolled Steel Flat Products from the Republic of Korea: Respondent Selection,” dated December 15, 2020. Consistent with the CRS from Korea 2018-19 Final Results, Commerce has collapsed POSCO and PIC, treating these companies as a single entity. In the CRS from Korea 2018-19 Final Results, Commerce determined that PIC is the successor-in-interest to POSCO Daewoo Corporation (PDW), and, as a consequence, is part of the collapsed POSCO single entity. See Certain Cold-Rolled Steel Flat Products from the Republic of Korea: Final Results of Antidumping Duty Administrative Review; 2018-2019, 86 FR 40808 (July 29, 2021) (CRS from Korea 2018-19 Final Results), and accompanying Issues and Decision Memorandum. POSCO submitted its questionnaire responses in this review on behalf of the collapsed entity, and PIC was initially selected by Commerce for individual examination. We continue to refer to the collapsed entity as “POSCO/PIC” hereafter.

For a more detailed description of the events that followed the initiation of this review, see the Preliminary Decision Memorandum, dated concurrently with these results and hereby adopted by this notice.³ The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at http://enforcement.trade.gov/frn/. A list of topics discussed in the Preliminary Decision Memorandum is attached as Appendix I to this notice.

³ See Memorandum, “Decision Memorandum for the Preliminary Results of the Antidumping Duty Administrative Review: Certain Cold Rolled Steel Flat Products from the Republic of Korea; 2019-2020,” dated concurrently with, and hereby adopted by, this notice (Preliminary Decision Memorandum).

Scope of the Order

The product covered by the Order ⁴ is cold-rolled steel from Korea. For a complete description of the scope of the Order, see the Preliminary Decision Memorandum.

⁴ See Certain Cold Rolled Steel Flat Products from Brazil, India, the Republic of Korea, and the United Kingdom: Amended Final Affirmative Antidumping Determinations for Brazil and the United Kingdom and Antidumping Duty Orders, 81 FR 64432 (September 20, 2016) (Order).

Methodology

Commerce is conducting this review in accordance with sections 751(a)(2) of the Tariff Act of 1930, as amended (the Act). For a full description of the methodology underlying our conclusions, see the Preliminary Decision Memorandum.

Rate for Non-Examined Companies

For the companies that were not selected for individual review, we assigned a rate based on the rates for the respondents that were selected for individual examination.⁵ Consistent with the U.S. Court of Appeals for the Federal Circuit's decision in Albemarle, we are applying to the 38 companies not selected for individual examination a rate of zero percent, because we calculated rates of zero for both mandatory respondents, Hyundai and POSCO/PIC.⁶ These are the only rates determined in this review for individually examined respondents and, thus, we are applying this rate to the 38 firms not selected for individual examination under section 735(c)(5)(B) of the Act.

⁵ See section 735(c)(5)(A) of the Act.

⁶ See Albemarle Corp. v. United States, 821 F.3d 1345 (Fed. Cir. 2016) (Albemarle).

Preliminary Results of Review

Commerce preliminarily determines that the following weighted-average dumping margins exist for the period September 1, 2019, through August 31, 2020:

Producer/exporter | Weighted- average dumping margin (percent)
Hyundai Steel Company | 0.00
POSCO/POSCO International Corporation | 0.00
Non-Examined Companies ⁷ | 0.00

Disclosure and Public Comment

⁷ See Appendix II for a full list of these companies.

Commerce intends to disclose the calculations performed for these preliminary results within five days of the date of publication of this notice, in accordance with 19 CFR 351.224(b). Interested parties may comment by submitting case briefs no later than 30 days after the date of publication of this notice.⁸ Rebuttal briefs, the content of which is limited to issues raised in the case briefs, must be filed within seven days from the deadline date for the submission of case briefs.⁹

⁸ See 19 CFR 351.309(c)(1)(ii).

⁹ See 19 CFR 351.309(d); see also Temporary Rule Modifying AD/CVD Service Requirements Due to COVID-19; Extension of Effective Period, 85 FR 41363 (July 10, 2020) (Temporary Rule).

Parties who submit case briefs or rebuttal briefs in this proceeding are encouraged to submit with each argument: (1) A statement of the issue; (2) a brief summary of the argument; and (3) a table of authorities.¹⁰ Case and rebuttal briefs should be filed using ACCESS ¹¹ and must be served on interested parties.¹² Executive summaries should be limited to five pages total, including footnotes.

¹⁰ See 19 CFR 351.309(c)(2) and (d)(2).

¹¹ See generally 19 CFR 351.303.

¹² See 19 CFR 351.303(f).

Pursuant to 19 CFR 351.310(c), interested parties who wish to request a hearing must submit a written request to the Assistant Secretary for Enforcement and Compliance within 30 days of the date of publication of this notice. Requests should contain: (1) The party's name, address and telephone number; (2) the number of participants; (3) whether any participant is a foreign national; and (4) a list of issues parties intend to discuss. Issues raised in the hearing will be limited to those raised in the respective case and rebuttal briefs. If a request for a hearing is made, Commerce intends to hold the hearing at a date and time to be determined.¹³ Parties should confirm the date, time, and location of the hearing two days before the scheduled date.

¹³ See 19 CFR 351.310(d).

Commerce intends to issue the final results of this administrative review, including the results of its analysis of the issues raised in any case or rebuttal briefs, no later than 120 days after the date of publication of this notice, unless extended.¹⁴

¹⁴ See section 751(a)(3)(A) of the Act and 19 CFR 351.213(h).

Assessment Rates

Upon issuing the final results, Commerce shall determine, and Customs and Border Protection (CBP) shall assess, antidumping duties on all appropriate entries.¹⁵ If the weighted-average dumping margin for an individually examined respondent is not zero or de minimis (i.e., less than 0.50 percent) in the final results of this review, we will calculate importer-specific assessment rates on the basis of the ratio of the total amount of dumping calculated for each importer's examined sales and the total entered value of such sales in accordance with 19 CFR 351.212(b)(1).¹⁶ We will instruct CBP to assess antidumping duties on all appropriate entries covered by this review when the importer-specific assessment rate calculated in the final results of this review is above de minimis (i.e., 0.50 percent). For any individually examined respondent whose weighted-average dumping margin is zero or de minimis in the final results of review, or if an importer-specific assessment rate is zero or de minimis, Commerce will instruct CBP to liquidate appropriate entries without regard to antidumping duties.¹⁷

¹⁵ See 19 CFR 351.212(b)(1).

¹⁶ See Antidumping Proceedings: Calculation of the Weighted-Average Dumping Margin and Assessment Rate in Certain Antidumping Proceedings: Final Modification, 77 FR 8101, 8103 (February 14, 2012).

¹⁷ Id., 77 FR at 8102-3; see also 19 CFR 351.106(c)(2).

In accordance with Commerce's “automatic assessment” practice,¹⁸ for entries of subject merchandise during the POR produced by Hyundai and POSCO/PIC for which the producer did not know its merchandise was destined for the United States, we will instruct CBP to liquidate unreviewed entries at the all-others rate of 20.33 percent established in the LTFV investigation.¹⁹

¹⁸ See Antidumping and Countervailing Duty Proceedings: Assessment of Antidumping Duties, 68 FR 23954 (May 6, 2003).

¹⁹ See Order.

For the 38 companies which were not selected for individual examination,²⁰ we intend to assign an assessment rate based on the cash deposit rate calculated for the companies selected for mandatory review (i.e., Hyundai and POSCO/PIC).²¹ The final results of this review shall be the basis for the assessment of antidumping duties on entries of merchandise covered by the final results of this review and for future deposits of estimated duties, where applicable.²²

²⁰ See Appendix II.

²¹ See section 735(c)(5)(A) of the Act; see also Preliminary Decision Memorandum at Section IV, “Rate for Non-Examined Companies.

²² See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the notice of final results of this administrative review for all shipments of the subject merchandise entered, or withdrawn from warehouse, for consumption on or after the date of publication, as provided by section 751(a)(2)(C) of the Act: (1) The cash deposit rate for Hyundai, POSCO/PIC, and other companies listed in the final results of review will be equal to the weighted-average dumping margin established in the final results of this administrative review; (2) for merchandise exported by producers or exporters not covered in this review but covered in a prior segment of the proceeding, the cash deposit rate will continue to be the company-specific rate published for the most recently completed segment of this proceeding in which they were reviewed; (3) if the exporter is not a firm covered in this review, a prior review, or the original investigation but the producer is, then the cash deposit rate will be the rate established for the most recently completed segment of this proceeding for the producer of the merchandise; and (4) the cash deposit rate for all other producers or exporters will continue to be 20.33 percent,²³ the all-others rate established in the less-than-fair-value investigation. These cash deposit requirements, when imposed, shall remain in effect until further notice.

²³ See Order.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

Commerce is issuing and publishing this notice in accordance with sections 751(a)(1) and 777(i)(1) of the Act, and 19 CFR 351.221(b)(4).

Dated: September 30, 2021.
Christian Marsh,
Acting Assistant Secretary for Enforcement and Compliance.

Appendix I

List of Topics Discussed in the Preliminary Decision Memorandum

I. Summary

II. Background

III. Scope of the Order

IV. Rate for Non-Examined Companies

V. Discussion of the Methodology

VI. Currency Conversion

VII. Recommendation

Appendix II

List of Companies Not Individually Examined

1. AJU Steel Co., Ltd.

2. Ameri-Source Korea

3. Dai Yang Metal Co., Ltd.

4. DCM Corporation

5. DK GNS Co., Ltd.

6. Dongbu Incheon Steel Co., Ltd

7. Dongbu Steel Co., Ltd.

8. Dongkuk Industries Co., Ltd.

9. Dongkuk Steel Mill Co., Ltd.

10. GS Global Corporation

11. Hanawell Co., Ltd.

12. Hankum Co., Ltd.

13. Hwashin Co. Ltd.

14. Hyosung TNC Corporation

15. Hyundai Corporation

16. JMP Co., Ltd.

17. KG Dongbu Steel Co., Ltd.

18. Korinox Co., Ltd.

19. Mikwang Precision Manufacture Co., Ltd.

20. Okaya Korea Co., Ltd.

21. POSCO Coated and Colored Steel Co., Ltd.

22. Samhwan Steel Co., Ltd.

23. Samsung C & T Corporation

24. Samsung Electronics Co., Ltd.

25. Samsung STS Co., Ltd.

26. SeAH Changwon Integrated Special Steel Corporation

27. SeAH Coated Metal Corporation

28. SeAH Steel Corporation

29. Shin Steel Co., Ltd.

30. Shin Young Co., Ltd.

31. Signode Korea Inc.

32. SK Networks Co., Ltd.

33. Soon Hong Trading Co., Ltd.

34. Sungjin Co., Ltd.

35. Taesan Corporation

36. TCC Steel Corporation

37. TI Automotive Ltd.

38. Wolverine Korea Co., Ltd.

[FR Doc. 2021-21790 Filed 10-5-21; 8:45 am]

BILLING CODE 3510-DS-P